DEPARTMENT OF AGRICULTURE

Forest Service

Notice of Lincoln County Resource Advisory Committee Meeting

AGENCY: Forest Service, USDA.

ACTION: Notice of meeting.

SUMMARY: Pursuant to the authorities in the Federal Advisory Committee Act (Pub. L. 92-463) and under the Secure Rural Schools and Community Self-Determination Act of 2000 (Pub. L. 106-393) the Kootenai National Forest's Lincoln County Resource Advisory Committee will meet on Wednesday, March 11, 2009 at 6 p.m. at the Forest Supervisor's Office in Libby, Montana for a business meeting. The meeting is open to the public.

DATES: March 11, 2009.

ADDRESSES: Forest Supervisor's Office, 31374 U.S. Hwy 2, Libby, Montana.

FOR FURTHER INFORMATION CONTACT: Willie Sykes, Committee Coordinator, Kootenai National Forest at (406) 283-7694, or e-mail wsykes@fs.fed.us.

SUPPLEMENTARY INFORMATION: Agenda will include a consideration of 2009 project proposals from the Libby Ranger District and the Three Rivers Ranger District and receiving public comment. If the meeting date or location is changed, notice will be posted in the local newspapers, including the Daily Interlake based in Kalispell, Montana.

Dated: February 24, 2009.
Paul Bradford,
Forest Supervisor.

[FR Doc. E9-4719 Filed 3-4-09; 8:45 am]

BILLING CODE 3410-11-M